NATIONAL SCIENCE FOUNDATION

Advisory Committee for Social, Behavioral, and Economic Sciences; Notice of Meeting

In accordance with the Federal Advisory Committee Act (Pub. L. 92-463, as amended), the National Science Foundation announces the following meeting:

Name: Advisory Committee for Social, Behavioral, and Economic Sciences (1171).

Date & Time:May 25, 2000; 8:30 a.m.-5 p.m.

May 26, 2000; 8:30 a.m.-5 p.m.

Place: NSF, Room 1235, 4201 Wilson Blvd., Arlington, VA 22230.

Type of Meeting: Open.

Contact Person: Dr. Kenneth M. Brown, Executive Secretary; Directorate for Social, Behavioral, and Economic Sciences, NSF, Suite 905; 4201 Wilson Blvd., Arlington, VA 22230. Telephone: (703) 306-1741.

Minutes: May be obtained from the contact person listed above.

Purpose of Meeting: To provide advice and recommendations to the National Science Foundation on major goals and policies pertaining to SBE programs and activities.

Agenda: Discussions on issues, role and future direction of the NSF Directorate for Social, Behavioral, and Economic Sciences.

Dated: April 19, 2000.
Karen J. York,
Committee Management Officer.

[FR Doc. 00-10123 Filed 4-21-00; 8:45 am]

BILLING CODE 7555-01-M